DEPARTMENT OF DEFENSE

Department of the Air Force

Notice of Intent To Prepare an Environmental Impact Statement (EIS) for Actions To Sustain Operability of Air Force Space Command PAVE PAWS Radar Sites at Cape Cod Air Station (AS), Massachusetts (MA); Beale Air Force Base (AFB), California (CA); and Clear Air Station (AS), Alaska (AK)

Pursuant to the National Environmental Policy Act (NEPA) of 1969, as amended (42 U.S.C. 4321, et seq.), The Council on Environmental Quality (CEQ) Regulations for Implementing the Procedural Provisions of NEPA (40 CFR Parts 1500-1508), and Air Force policy and procedures (32 CFR Part 989), Air Force Space Command (AFSPC) intends to prepare an EIS for the Service Life Extension Program (SLEP) actions to modernize the facilities at the PAVE PAWS (Phased Array Warning System) radar sites located at Cape Cod AS, MA; Beale AFB, CA; and Clear AS, AK.

The current proposal includes replacements of electronic equipment and computer software in the PAVE PAWS Early-Warning Radar facilities. The EIS will assess all impacts as they relate to these replacements, including emission of radio-frequency energy. AFSPC will be the lead agency for the EIS. The Ballistic Missile Defense Organization has been invited to be a cooperating agency. AFSPC is planning to conduct public scoping meetings to determine the issues and concerns that should be addressed in the EIS. Notice of time and location of the scoping meetings will be made to public officials, agencies and announced in the news media in areas where the meetings will be held. For further information concerning the proposed replacements of electronic equipment and computer software in the PAVE PAWS Early-Warning Radar facilities at Cape Cod AS, MA; Beale AFB, CA; and Clear AS, AK, contact Mr. George Gauger, HQ AFCEE/ECA, 3207 North Road, Brooks AFB, TX 78235-5363.

Janet A. Long,
Air Force Federal Register Liaison Officer.

[FR Doc. 00-1976 Filed 1-26-00; 8:45 am]

BILLING CODE 5001-05-U